FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than November 30, 2022.

A. Federal Reserve Bank of Atlanta (Erien O. Terry, Assistant Vice President) 1000 Peachtree Street NE, Atlanta, Georgia 30309; Comments can also be sent electronically to Applications.Comments@atl.frb.org:

1. Paul A. Durand, Jr., Youngsville, Louisiana, as co-trustee of The Sue Soileau Trust, Lafayette, Louisiana; and Karen Sue Rowe, Sunset, Louisiana, as co-trustee of the Washington State Bancshares, Inc. Employee Stock Ownership Plan, Washington, Louisiana; to acquire voting shares of Washington State Bancshares, Inc., and thereby indirectly acquire voting shares of Washington State Bank, both of Washington, Louisiana.

B. Federal Reserve Bank of Minneapolis (Stephanie Weber, Assistant Vice President), 90 Hennepin Avenue, Minneapolis, Minnesota 55480-0291:

1. Daniel Davison, Star Prairie, Wisconsin; Lauren Howard, Duluth, Minnesota; Patrick Davison, Boise, Idaho; Jacquelyn Sahnow, River Falls, Wisconsin; and Steven Davison and Rhonda Davison, both of Alamo, Texas; to become the Davison Family Shareholder Group, a group acting in concert, to retain voting shares of River Falls Bancshares, Inc., and thereby indirectly retain voting shares of River Falls State Bank, both of River Falls, Wisconsin.

C. Federal Reserve Bank of San Francisco (Joseph Cuenco, Assistant Vice President, Formations & Transactions) 101 Market Street, San Francisco, California 94105-1579:

1. Anna Lou Patten Irrevocable Trust u.a.d. 12/28/12, Michael Watson, individually, and as trustee, Lindon, Utah, with Matthew Mitton, as special trustee, Salt Lake City, Utah; Chad Patten, Lehi, Utah; and Kestin Wilkinson, Orem, Utah; all as a group acting in concert, to retain voting shares of Capital Community Bancorporation, Inc., and thereby indirectly retain voting shares of Capital Community Bank, both of Provo, Utah.

Board of Governors of the Federal Reserve System.
Michele Taylor Fennell,
Deputy Associate Secretary of the Board.

[FR Doc. 2022-24851 Filed 11-14-22; 8:45 am]

BILLING CODE P